DEPARTMENT OF DEFENSE

GENERAL SERVICES ADMINISTRATION

NATIONAL AERONAUTICS AND SPACE ADMINISTRATION

48 CFR Parts 25 and 52

[FAC 2005-09; FAR Case 2005-045; Item VII Docket FAR-2006-0020]

RIN 9000-AK43

Federal Acquisition Regulation; Removal of Sanctions Against Certain European Union Member States

AGENCIES: Department of Defense (DoD), General Services Administration (GSA), and National Aeronautics and Space Administration (NASA).

ACTION: Interim rule with request for comments.

SUMMARY: The Civilian Agency Acquisition Council and the Defense Acquisition Regulations Council (Councils) have agreed on an interim rule amending the Federal Acquisition Regulation (FAR) to remove the sanctions against certain European Union (EU) countries.

DATES: Effective Date: April 19, 2006.

Comment Date: Interested parties should submit written comments to the FAR Secretariat on or before June 19, 2006 to be considered in the formulation of a final rule.

ADDRESSES: Submit comments identified by FAC 2005-09, FAR case 2005-045, by any of the following methods:

•Federal eRulemaking Portal: http://www.regulations.gov. Follow the instructions for submitting comments.

• Agency Web Site: http://www.acqnet.gov/far/ProposedRules/proposed.htm. Click on the FAR case number to submit comments.

• E-mail: farcase.2005-045@gsa.gov. Include FAC 2005-09, FAR case 2005-045 in the subject line of the message.

• Fax: 202-501-4067.

• Mail: General Services Administration, Regulatory Secretariat (VIR), 1800 F Street, NW, Room 4035, ATTN: Laurieann Duarte, Washington, DC 20405.

Instructions: Please submit comments only and cite FAC 2005-09, FAR case 2005-045, in all correspondence related to this case. All comments received will be posted without change to http://www.acqnet.gov/far/ProposedRules/proposed.htm, including any personal and/or business confidential information provided.

FOR FURTHER INFORMATION CONTACT: For clarification of content, contact Mr. William Clark, Procurement Analyst, at (202) 219-1813. Please cite FAC 2005-09, FAR case 2005-045. For information pertaining to status or publication schedules, contact the FAR Secretariat at (202) 501-4755.

SUPPLEMENTARY INFORMATION:

A. Background

The USTR has issued a determination removing the sanctions against Austria, Belgium, Denmark, Finland, France, Ireland, Italy, Luxembourg, the Netherlands, Sweden, and the United Kingdom (71 FR 10093). These sanctions were put in place in 1993 and apply only to acquisitions not covered by the WTO GPA (i.e., end products with an estimated acquisition value less than $193,000, construction with an estimated acquisition value less than $7,407,000, or services that are excluded from coverage by the WTO GPA). These sanctions did not apply to acquisitions by the Department of Defense.

This interim rule removes FAR Subpart 25.6, Trade Sanctions, and the clauses at FAR 52.225-15, Sanctioned European Union Country End Products, and 52.225-16, Sanctioned European Union Country Services, and other associated references in FAR Part 25.

This is not a significant regulatory action and, therefore, was not subject to review under Section 6(b) of Executive Order 12866, Regulatory Planning and Review, dated September 30, 1993. This rule is not a major rule under 5 U.S.C. 804.

B. Regulatory Flexibility Act

The interim rule is not expected to have a significant economic impact on a substantial number of small entities within the meaning of the Regulatory Flexibility Act,5 U.S.C. 601, et seq., because this rule only removes sanctions from end products from sanctioned EU countries with an estimated acquisition value less than $193,000, sanctioned EU country construction with an estimated acquisition value less than $7,407,000, or sanctioned EU country services that are excluded from coverage by the World Trade Organization Government Procurement Agreement. These sanctions did not apply to small business set-asides, to acquisitions below the simplified acquisition threshold using simplified acquisition procedures, or to acquisitions by the Department of Defense.Therefore, an Initial Regulatory Flexibility Analysis has not been performed. The Councils will consider comments from small entities concerning the affected FAR Parts 25 and 52 in accordance with 5 U.S.C. 610. Interested parties must submit such comments separately and should cite 5 U.S.C 601, et seq. (FAC 2005-09, FAR case 2005-045), in correspondence.

C. Paperwork Reduction Act

The Paperwork Reduction Act does not apply because the changes to the FAR do not impose information collection requirements that require the approval of the Office of Management and Budget under 44 U.S.C. 3501, et seq.

D. Determination to Issue an Interim Rule

A determination has been made under the authority of the Secretary of Defense (DoD), the Administrator of General Services (GSA), and the Administrator of the National Aeronautics and Space Administration (NASA) that urgent and compelling reasons exist to promulgate this interim rule without prior opportunity for public comment. This action is necessary because the removal of these sanctions went into effect March 1, 2006. However, pursuant to Public Law 98-577 and FAR 1.501, the Councils will consider public comments received in response to this interim rule in the formation of the final rule.

List of Subjects in 48 CFR Parts 25 and 52

Government procurement.

Dated: April 12, 2006.
Gerald Zaffos,
Director,Contract Policy Division.

Therefore, DoD, GSA, and NASA amend 48 CFR parts 25 and 52 as set forth below:

1. The authority citation for 48 CFR parts 25 and 52 continues to read as follows:

Authority: Authority: 40 U.S.C. 121(c); 10 U.S.C. chapter 137; and 42 U.S.C. 2473(c).

PART 25—FOREIGN ACQUISITION

25.001 [Amended]

2. Amend section 25.001 by removing paragraph (d).

25.002 [Amended]

3. Amend section 25.002 in the table following the introductory paragraph by removing the entry “25.6 Trade Sanctions” and its corresponding line item entries and adding “25.6 [Reserved]” in its place.

25.003 [Amended]

4. Amend section 25.003 by removing the definitions “Sanctioned European Union country construction”, “Sanctioned European Union country end product”, “Sanctioned European Union country services”, and “Sanctioned European Union member state”.

5. Amend section 25.501 by revising paragraph (c) to read as follows:

25.501 General.

* * * * *

(c) Must identify and reject offers of end products that are prohibited in accordance with Subpart 25.7; and

* * * * *

25.502 [Amended]

6. Amend section 25.502 in paragraph (a)(1) by removing the phrase “sanctioned (see Subpart 25.6),”.

7. Amend section 25.503 by revising paragraph (a)(1) to read as follows:

25.503 Group offers.

(a) * * *

(1) If any part of the award would consist of prohibited end products (see Subpart 25.7); or

* * * * *

Subpart 25.6 [Reserved]

8. Remove and reserve Subpart 25.6.

25.1103 [Amended]

9. Amend section 25.1103 by removing paragraph (c) and redesignating paragraph (d) as paragraph (c).

PART 52—SOLICITATION PROVISIONS AND CONTRACT CLAUSES

52.212-5 [Amended]

10. Amend section 52.212-5 by revising the date of the clause to read “(April, 2006)”; and in paragraph (b) of the clause by removing and reserving paragraphs (b)(27) and (b)(28).

52.225-15 and 52.225-16 [Reserved]

11. Remove and reserve sections 52.225-15 and 52.225-16.

[FR Doc. 06-3684 Filed 4-18-06; 8:45 am]

BILLING CODE 6820-EP-S